DEPARTMENT OF COMMERCE

Foreign-Trade Zones Board

[B-33-2018]

Foreign-Trade Zone (FTZ) 12—McAllen, Texas; Notification of Proposed Production Activity; Black & Decker (U.S.), Inc. (Indoor and Outdoor Power Tools and Related Components); Mission, Texas

Black & Decker (U.S.), Inc. (Black & Decker) submitted a notification of proposed production activity to the FTZ Board for its facility in Mission, Texas. The notification conforming to the requirements of the regulations of the FTZ Board (15 CFR 400.22) was received on June 1, 2018.

The Black & Decker facility is located within FTZ 12—Site 4. The facility will be used for the manufacture/assembly of cordless indoor and outdoor power tools and of power tool components (batteries, plastic injection molded parts, cordless motors, and certain subassemblies), and for the packaging/kitting of power tools with their components. Pursuant to 15 CFR 400.14(b), FTZ activity would be limited to the specific foreign-status materials and components and specific finished products described in the submitted notification (as described below) and subsequently authorized by the FTZ Board.

Production under FTZ procedures could exempt Black & Decker from customs duty payments on the foreign-status components used in export production. On its domestic sales, for the foreign-status materials/components noted below, Black & Decker would be able to choose the duty rates during customs entry procedures that apply to: Plastic injection molded components; DC motors exceeding 74.6 watts but <735 watts; DC motors exceeding 750 watts; core subassemblies; armature subassemblies; field assemblies; magnet ring subassemblies; lithium ion batteries; hammer drills; drill/drivers; circular saws; jigsaws; impact wrenches; impact drivers; grease guns; string trimmers; hedge trimmers; and, lawnmowers (duty rates range from free to 4%). Black & Decker would be able to avoid duty on foreign-status components which become scrap/waste. Customs duties also could possibly be deferred or reduced on foreign-status production equipment.

The components and materials sourced from abroad include: Resins (polyethylene; thermoplastic elastomers (TPE); polypropylene; polystyrene; acrylonitrile butadiene styrene (ABS); polymers of styrene; polycarbonate/ABS—cycoloy blend; TPE styrene-based styrene ethylene butylene styrene block copolymer (SEBS); acetyl; epoxy powder; polycarbonate (PC); polybutylene terephthalate (PBT); xenoy blend—PC/PBT; polyethylene terephthalate (PET); polyester; saturated polyester; glass filled nylon; polyamide; thermoplastic elastomer—urethane based (TPU)); hoses with couplers; plastic labels; plastic blade sheaths; plastic cord clamps; rubber belts; rubber o-rings; rubber valve seals; rubber retaining ring bullets; metal screws; self-tapping steel bolts; metal threaded screws; steel nuts; steel wave washers; steel clamp washers; steel cotter pins; steel retaining rings; steel pins; rear door rods; steel detent springs; steel belt hooks; steel fuse straps; steel pipe plugs; steel power straps; allen wrenches; lawnmower blades; pump housings; fans; fan and insert assemblies; fan subassemblies; back wheel shafts; battery housing lids; battery rails; blade insulators; bottom battery wells; handle brackets; brackets; brake retaining plates; brake rings; mower start buttons; bail handle cams; cord holders; mower decks; rear doors; flaps; frames; front deck inserts; front and rear decks; height adjust handles; housings (base cover; assembly; side cover; handle cover; height adjustment; storage); rear volute inserts; knobs; bail catch levers; mounting plates; brake pads; plate covers; axle retention plates; machined plates; mulch plugs; linkage connection rods; safety bails; spacers; front and rear wheel assemblies; front axles; height adjust keys; link arm subassemblies; top battery wells; drill/drivers; hammer drills; circular saws; jigsaws; reciprocating saws; impact wrenches; impact drivers; 2-speed actuators; actuators; aux frames; aux handles; motor cases; battery charger handles; bumpers; field cases; handle clamps; rod area covers; fan baffles; forward/reverse bars; gear case clamps; gear case covers; grease tubes; guards; housing covers; knobs for saws; linkages; mounts; PCA board mounts; pistons; support plates; threaded plates; powdered metal bushings; retaining rings; sensor caps; shoe subassemblies; blade spacers; speed buttons; spindle lock plates; subassemblies (cap, housing, handle, pole top, pole, ratchet spool; front end drill, front end impact driver, guard); valve caps; valve outlets; outer clamp washers; yokes; purge valves; valve bodies; valve plungers; ball bearings; needle bearings; output crank and spindles; driven pulleys; gear cases; gearboxes with inserts; pinions; ring gears; DC motors—output less than 750W; DC motors—output >750W <75 kW; armature assemblies; rotor spacers; commutators; rotor core assemblies; field assemblies; flux extenders; laminations; magnet ring assemblies; ring gear mounts; rotor and motor adaptor assemblies; rotor spacers; rotor stacks; shafts; stator stacks; stator core assemblies; stator inserts; tang base assemblies; tang mounts; tang segments; chargers; magnets; lithium ion batteries; assembly housings; cell holders for batteries; front insert covers; cover housings; latches for batteries; lithium ion cells; flashlights; spotlights; motor starter switches; battery modules; electronic modules; light ring assemblies; magnet winding wire; insulated wire; electric insulators; and, plastic insulator fittings (duty rates range from free to 12.5%). The request indicates that certain types of PET resin are subject to antidumping/countervailing duty (AD/CVD) orders if imported from certain countries. The FTZ Board's regulations (15 CFR 400.14(e)) require that merchandise subject to AD/CVD orders, or items which would be otherwise subject to suspension of liquidation under AD/CVD procedures if they entered U.S. customs territory, be admitted to the zone in privileged foreign status (19 CFR 146.41).

Public comment is invited from interested parties. Submissions shall be addressed to the Board's Executive Secretary at the address below. The closing period for their receipt is July 23, 2018.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Diane Finver at Diane.Finver@trade.gov or (202) 482-1367.

Dated: June 5, 2018.
Andrew McGilvray,
Executive Secretary.

[FR Doc. 2018-12494 Filed 6-8-18; 8:45 am]

BILLING CODE 3510-DS-P